COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List services to be provided by nonprofit agencies employing persons who are blind or have other severe disabilities, and deletes from the Procurement List services previously provided by such agencies.

DATES: Effective Date: 5/17/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 2/12/2010 (75 FR 6869-6870) and 2/19/2010 (75 FR 7450-7451), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 46-48c) in connection with the services proposed for addition to the Procurement List.

End of Certification

Accordingly, the following services are added to the Procurement List:

Services:

Service Type/Location: Mailroom Operation, Internal Revenue Services, 5100 River Road, Schiller Park, IL.

NPAs: ServiceSource, Inc., Alexandria, VA (PRIME Contractor), Jewish Vocational Service and Employment Center, Chicago, IL (Subcontractor).

Contracting Activity: DEPT OF TREAS, Internal Revenue Service, Washington, DC.

Service Type/Location: Document Management Services, Evans Army Community Hospital, 1650 Cochrane Circle, Fort Carson, CO.

NPA: Goodwill Industrial Services Corporation, Colorado Springs, CO.

Contracting Activity: DEPT OF THE ARMY, XR W6BA ACA, FORT CARSON, CO.

Deletions

On 2/12/2010 (75 FR 6869-6870 and 2/19/2010 (75 FR 7450-7451), the Committee for Purchase From People Who Are Blind or Severely Disabled published notices of proposed deletions from the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Supply and Warehousing Service, Defense Contracting Management, District South, 805 Walker Street, Marietta, GA.

NPA: Tommy Nobis Enterprises, Inc., Marietta, GA.

Contracting Activity: Defense Logistics Agency, DLA Support Services—DSS, Fort Belvoir, VA.

Service Type/Location: Disposal Support Services, Pensacola Naval Air Station, Pensacola, FL.

NPA: Association for Retarded Citizens/Escambia, Inc., Pensacola, FL.

Contracting Activity: Defense Logistics Agency, DLA Support Services—DSS, Fort Belvoir, VA.

Service Type/Location: Janitorial/Custodial, Florida Air National Guard: Buildings 874 and 877, 14300 Fang Drive, Homestead ARB, FL.

NPA: Goodwill Industries of South Florida, Inc., Miami, FL.

Contracting Activity: DEPT OF THE ARMY, XRA W7M2 USPFO ACTIVITY FL ARNG, St Augustine, FL.

Barry S. Lineback,
Director, Business Operations.

[FR Doc. 2010-8663 Filed 4-15-10; 8:45 am]

BILLING CODE 6353-01-P